FEDERAL COMMUNICATIONS COMMISSION

[DA-05-492]

Fifth Meeting of the Advisory Committee for the 2007 World Radiocommunication Conference (WRC-07 Advisory Committee)

AGENCY: Federal Communications Commission.

ACTION: Notice.

SUMMARY: In accordance with the Federal Advisory Committee Act, this notice advises interested persons that the fifth meeting of the WRC-07 Advisory Committee will be held on April 4, 2005, at the Federal Communications Commission. The purpose of the meeting is to continue preparations for the 2007 World Radiocommunication Conference. The Advisory Committee will consider any preliminary views and draft proposals introduced by the Advisory Committee's Informal Working Groups.

DATES: April 4, 2005; 11 a.m.-12 noon.

ADDRESSES: Federal Communications Commission, 445 12th Street, SW., Room TW-C305, Washington, DC 20554.

FOR FURTHER INFORMATION CONTACT: Alexander Roytblat, FCC International Bureau, Strategic Analysis and Negotiations Division, at (202) 418-7501.

SUPPLEMENTARY INFORMATION: The Federal Communications Commission (FCC) established the WRC-07 Advisory Committee to provide advice, technical support and recommendations relating to the preparation of United States proposals and positions for the 2007 World Radiocommunication Conference (WRC-07).

In accordance with the Federal Advisory Committee Act, Public Law 92-463, as amended, this notice advises interested persons of the fifth meeting of the WRC-07 Advisory Committee. The WRC-07 Advisory Committee has an open membership. All interested parties are invited to participate in the Advisory Committee and to attend its meetings. The proposed agenda for the fifth meeting is as follows:

Agenda

Fifth Meeting of the WRC-07 Advisory Committee, Federal Communications Commission, 445 12th Street, SW., Room TW-C305, Washington, DC 20554. April 4, 2005; 11 a.m.-12 noon.

1. Opening Remarks.

2. Approval of Agenda.

3. Approval of the Minutes of the Fourth Meeting.

4. Reports on Recent WRC-07 Preparatory Meetings.

5. NTIA Draft Preliminary Views and Proposals.

6. Informal Working Group Reports and Documents relating to:

a. Consensus Views and Issues Papers;

b. Draft Proposals.

7. Future Meetings.

8. Other Business.

Federal Communications Commission.
Don Abelson,
Chief, International Bureau.

[FR Doc. 05-4112 Filed 3-2-05; 8:45 am]

BILLING CODE 6712-01-P